DEPARTMENT OF HOUSING AND URBAN DEVELOPMENT

[Docket No. FR-5467-N-01]

Notice of Intent To Prepare Environmental Impact Statement for the HOPE SF Development at Alice Griffith Public Housing Development, San Francisco, CA

AGENCY: Office of the Assistant Secretary for Community Planning and Development, HUD.

ACTION: Notice intent.

SUMMARY: HUD gives notice to the public that the City and County of San Francisco's Mayor's Office of Housing (MOH) as the Responsible Entity in accordance with 24 CFR 58.2, intends to prepare a Draft Environmental Impact Statement (EIS) for redevelopment of the Alice Griffith Public Housing as part of its HOPE SF development program. Funding for the project may include HUD funds from programs subject to regulation by 24 CFR part 58; these include, but are not limited to, Community Development Block Grant (CDBG) funds under Title I of the Housing and Community Development Act of 1974 and Home Investment Partnership Program (HOME) grants under Title II of the Cranston-Gonzales National Affordable Housing Act of 1990 as amended, Project Based Section 8 Vouchers under the United States Housing Act of 1937, Section 8(o)(13) and Public Housing operating subsidies for mixed income developments authorized under the U.S. Housing Act of 1937, Section 35. This notice is in accordance with regulations of the Council on Environmental Quality (CEQ). Federal agencies having jurisdiction by law, special expertise, or other special interest should report their interests and indicate their readiness to aid in the EIS effort as a “Cooperating Agency.”

A Draft EIS will be prepared for the proposed action described herein. Comments relating to the Draft EIS are requested and will be accepted by the contact person listed below. When the Draft EIS is completed, a notice will be sent to individuals and groups known to have an interest in the Draft EIS and particularly in the environmental impact issues identified therein. Any person or agency interested in receiving a notice and making comment on the Draft EIS should contact the person listed below within 30-days after publication of this notice.

This EIS will be a NEPA document intended to satisfy requirements of Federal environmental statutes. In accordance with specific statutory authority and HUD's regulations at 24 CFR part 58 (Environmental Review Procedures for Entities Assuming HUD Environmental Responsibilities), HUD has provided for assumption of its NEPA authority and NEPA lead agency responsibility by the City and County of San Francisco.

ADDRESSES: All interested agencies, groups, and persons are invited to submit written comments on the project named in this notice, and the Draft EIS to the contact person shown below. The office of the contact person should receive comments and all comments so received will be considered prior to the preparation and distribution of the Draft EIS. Particularly solicited is information on reports or other environmental studies planned or completed in the project area, major issues and dates that the EIS should consider, and recommended mitigation measures and alternatives associated with the proposed action. Federal agencies having jurisdiction by law, special expertise or other special interest should report their interest and indicate their readiness to aid in the EIS effort as a “Cooperating Agency.”

FOR FURTHER INFORMATION CONTACT: Eugene Flannery, Environmental Compliance Manager, Mayor's Office of Housing, 1 South Van Ness Avenue, 5th Floor, San Francisco, CA 94103; Phone: (415) 701-5598; FAX: (415) 701-5501; e-mail: eugene.flannery@sfgov.org.

SUPPLEMENTARY INFORMATION:

A. Background

The MOH, acting under authority of section 104(g) of the Housing and Community Development Act of 1974 (42 U.S.C. 5304(g)), section 288 of the HOME Investment Partnerships Act (42 U.S.C. 12838), section 26 of the United States Housing Act of 1937 (42 U.S.C. 1437x) and HUD's regulations at 24 CFR part 58, in cooperation with other interested agencies, will prepare an EIS to analyze potential impacts of the Alice Griffith Public Housing revitalization program under HOPE SF (Cal 118). The proposed development would be located on approximately 20 net acres in the southeastern portion of San Francisco on the San Francisco South Quadrangle 7.5-minute U.S.G.S. topographic quadrangle map. The project site is bounded by Gilman Avenue on the south, Hawes Street on the west, Carroll Avenue on the north, and Arelious Walker Drive on the east. This EIS will be a NEPA document intended to satisfy requirements of Federal environmental statutes.

The proposed action would demolish and replace the existing 256 public housing units at the Alice Griffith Public Housing Development which were built in 1962. The proposed action would proceed in phases and would not displace existing residents. The initial phases would develop currently vacant portions of the Alice Griffith site, and existing residents would then occupy replacement public housing units before existing structures would be demolished in subsequent phases. Overall, the Project would develop a total of up to 1,210 units of public housing, affordable housing, below-market rate housing, and market-rate housing at the Alice Griffith site. It will provide new affordable housing that is targeted to the lower income levels of the Bayview population, including new units that are suitable for families, seniors, and young adults on 20 net acres along with development of adjacent non-SFHA property. Housing would include one-for-one replacement of 256 public housing units currently on the site, and 954 market-rate and below-market for-sale and rental units. Maximum buildings height would be up to 65 feet. A new 1.4-acre Alice Griffith Neighborhood Park would extend for several blocks near the center of the neighborhood.

There are three alternatives to the proposed action to be analyzed in the EIS. The alternatives are all variation of the project density. Alternative sites for the project were explored early in the process and it was determined that no other more viable site was available.

Alternative B, Replacement of the Alice Griffith Housing Units

Number of Units: 256.

Acreage: 15 acres.

No neighborhood park.

Percent Reduction: 79 percent.

Alternative C, Reduced Development Alternative

Number of Units: 875 units, distributed as follows:

256 Alice Griffith 1:1 Replacement Housing.

248 Affordable Housing Units <60% AMI.

37 Inclusionary Housing Units 80-120% AMI.

111 Workforce Housing Units 120-160% AMI.

223 Market Rate Housing Units.

Acreage: 20 acres.

New 1.4-acre Alice Griffith Neighborhood Park.

Percent Reduction: 27 percent.

Alternative D, No Project Alternative

No changes to the existing conditions.

The proposed redevelopment is consistent with requirements for a mixed-use, mixed-income housing project. The project site currently contains 256 residential units, a community center, a boys and girls club and a pump house. The residential units are in primarily two story structures. Much of the existing infrastructure would be demolished, and replaced, also in phases. Additional community space will be developed to provide a range of community uses (e.g., social services space, educational facilities, library, neighborhood services, commercial uses).

B. Need for the EIS

The proposed project may constitute an action significantly affecting the quality of the human environment and an EIS will be prepared on this project by the City and County of San Francisco's MOH in accordance with the National Environmental Policy Act of 1969 (42 U.S.C. 4321 et seq.). Responses to this notice will be used to: (1) Determine significant environmental issues, (2) identify data that the EIS should address, and (3) identify agencies and other parties that will participate in the EIS process and the basis for their involvement.

C. Scoping

A public EIS scoping meeting will be held on a date within the comment period and after at least 15 days of publishing this Notice of Intent. Notices of the scoping meeting will be mailed when the date has been determined. The EIS scoping meeting will provide an opportunity for the public to learn more about the project and provide input to the environmental process. At the meeting, the public will be able to view graphics illustrating preliminary planning work and talk with MOH staff, and members of the consultant team providing technical analysis to the project. Translators will be available. Written comments and testimony concerning the scope of the EIS will be accepted at this meeting.

D. EIS Issues

The MOH has preliminarily identified the following environmental elements for discussion in the EIS: Earth (geology, soils, topography); air quality; water (surface water movement/quantity, runoff/absorption, flooding, groundwater movement/quantity/quality); plants and animals; energy use; noise; land use and socioeconomic factors (land use patterns, relationship to plans/policies and regulations; population; housing and relocations); environmental justice (disproportionately high and adverse effects on minority and low income populations); historic and cultural resources; aesthetics, light and glare; parks and recreation; public services and utilities (fire, police, parks/recreation, communications, water, stormwater, sewer, solid waste); and transportation (transportation systems, parking, movement/circulation, traffic hazards).

Questions may be directed to the individual named in this notice under the heading FOR FURTHER INFORMATION CONTACT.

Dated: December 2, 2010.
Mercedes M. Márquez,
Assistant Secretary for Community Planning and Development.

[FR Doc. 2010-30844 Filed 12-7-10; 8:45 am]

BILLING CODE 4210-67-P